DEPARTMENT OF TRANSPORTATION

Federal Railroad Administration

[Docket Number FRA-2002-13398]

Petition for Waiver of Compliance

Under part 211 of Title 49 Code of Federal Regulations (CFR), this document provides the public notice that on November 8, 2017, the Hillsborough Area Regional Transit Authority (HART) petitioned the Federal Railroad Administration (FRA) for an extension of its existing Shared Use waiver of compliance addressing its limited connection with CSX Transportation (CSX). The petition was assigned docket number FRA-2002-13398.

In its petition, HART seeks to extend the terms and conditions of its Shared Use waiver, originally granted by FRA's Railroad Safety Board (Board) on October 18, 2002, and extended in 2006, 2011, and 2013. This Shared Use waiver is for the continued operation of the TECO Line Streetcar System at a “limited connection” (across the 14th Street automatic interlocking at-grade rail-rail crossing) with a railroad operated by CSX in Tampa, Florida. Trains belonging to the National Railroad Passenger Corporation (Amtrak) also cross at this location. In its petition, HART sites that there have been no deficiencies with its operation since the last approval in 2013 and that HART, CSX, and Amtrak have continually interfaced with FRA Regional staff to monitor the safety at that location.

Although no relief from any specific regulations is sought, FRA has closely monitored this crossing to ensure that the HART streetcar personnel such as operators and dispatchers regularly communicate with CSX and Amtrak in order to ensure safety at this location. FRA's regular audits at this location focus on operating practices contained in 49 CFR part 217, Railroad Operating Rules, in order to ensure that CSX, Amtrak, and streetcar crews are trained properly at this location and understand what to do if signals malfunction or other issues arise.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by February 12, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-28039 Filed 12-27-17; 8:45 am]

BILLING CODE 4910-06-P